DEPARTMENT OF DEFENSE

Office of the Secretary

Federal Advisory Committee; Transformation Advisory Group; Closed Meeting

AGENCY: Department of Defense (DoD).

ACTION: Notice of advisory committee closed meeting.

SUMMARY: Pursuant to the Federal Advisory Committee Act of 1972 (5 U.S.C. App 2, Section 1), the Sunshine in the Government Act of 1976 (5 U.S.C. 552b), and 41 CFR 102-3.150, the Department of Defense announces that the Transformation Advisory Group will hold a closed meeting on March 11, 2010.

DATES: The meeting will be held on March 11, 2010, from 8 a.m. to 3:45 p.m.

ADDRESSES: The meeting will be held at the Admiral Gooding Center, Washington Navy Yard, 1244 Patterson Avenue, SE., Washington, DC 20374.

FOR FURTHER INFORMATION CONTACT: Mr. Steven D. Behel, Designated Federal Officer, (757) 836-5365, 1562 Mitscher Ave., Suite 200, Norfolk, VA 23551-2488, steven.behel@jfcom.mil or Mr. Floyd March, Joint Staff, (703) 697-0610.

SUPPLEMENTARY INFORMATION:

Purpose of the Meeting

The purpose of the meeting is to inform a strategic concept that links ends, ways, and means in a manner that will allow the US military to operate effectively in a future operating environment that is potentially resource constrained.

Agenda

Meeting topics include: Joint Operating Environment, Quadrennial Defense Review, and challenges related to a resourced-constrained future operating environment.

Meeting Accessibility

Pursuant to 5 U.S.C. 552b, and 41 CFR 102-3.155, the Department of Defense has determined that the meeting shall be closed to the public. Per delegated authority by the Chairman, Joint Chiefs of Staff, LTG Keith M. Huber, Deputy Commander, U.S. Joint Forces Command in consultation with his legal advisor, has determined in writing that the public interest requires that all sessions of this meeting be closed to the public because they will be concerned with matters listed in section 552b(c)(1) of Title 5, U.S.C.

Written Statements

Pursuant to 41 CFR 102-3.105(j) and 102-3.140, the public or interested organizations may submit written statements to the membership of the Transformation Advisory Group at any time or in response to the stated agenda of a planned meeting. Written statements should be submitted to the Transformation Advisory Group's Designated Federal Officer; the Designated Federal Officer's contact information can be obtained from the GSA's FACA Database— https://www.fido.gov/facadatabase/public.asp.

Written statements that do not pertain to a scheduled meeting of the Transformation Advisory Group may be submitted at any time. However, if individual comments pertain to a specific topic being discussed at a planned meeting then these statements must be submitted no later than 14 business days prior to the meeting in question. The Designated Federal Officer will review all submitted written statements and provide copies to all the committee members.

Dated: February 16, 2010.
Mitchell S. Bryman,
Alternate OSD Federal Register Liaison Officer, Department of Defense.

[FR Doc. 2010-3668 Filed 2-23-10; 8:45 am]

BILLING CODE 5001-06-P